NEIGHBORHOOD REINVESTMENT CORPORATION

Regular Board of Directors Meeting; Sunshine Act

TIME AND DATE: 1:30 p.m., Monday, December 5, 2011.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session

III. Approval of the Regular Board of Directors Meeting Minutes

IV. Approval of the Finance, Budget and Program Committee Meeting Minutes

V. Approval of the Corporate Administrative Committee Meeting Minutes

VI. Approval of the Audit Committee Meeting Minutes

VII. FY12 Final Budget

VIII. Financial Report

IX. Management Report

X. FY'11 Corporate Scorecard & FY'12 Proposed Dashboard

XI. FY 2012-FY 2016 Strategic Plan and Strategies

XII. Adjournment

Erica Hall,
Assistant Corporate Secretary.

[FR Doc. 2011-31080 Filed 11-29-11; 4:15 pm]

BILLING CODE 7570-02-P